COMMODITY FUTURES TRADING COMMISSION

Agency Information Collection Activities: Notice of Intent To Request Approval for Collection 3038-0117, Exemption From Derivatives Clearing Organization Registration

AGENCY: Commodity Futures Trading Commission.

ACTION: Notice.

SUMMARY: The Commodity Futures Trading Commission (“CFTC” or “Commission”) is announcing an opportunity for public comment on a proposed information collection by the agency. Under the Paperwork Reduction Act (“PRA”), Federal agencies are required to publish notice in the Federal Register concerning each proposed collection of information and to allow 60 days for public comment. This notice announces the intention of the Commission to request approval for Collection 3038-0117, Exemption from Derivatives Clearing Organization Registration.

DATES: Comments must be submitted on or before July 31, 2023.

ADDRESSES: You may submit comments, identified by “Notice of Intent to Request for Approval for Collection 3038-0117, Exemption from Derivatives Clearing Organization Registration,” by any of the following methods:

• The Agency's website, at https://comments.cftc.gov/. Follow the instructions for submitting comments through the website.

• Mail: Christopher J. Kirkpatrick, Secretary of the Commission, Commodity Futures Trading Commission, Three Lafayette Centre, 1155 21st Street NW, Washington, DC 20581.

• Hand Delivery/Courier: Same as Mail above.

Please submit your comments using only one method. All comments must be submitted in English, or if not, accompanied by an English translation. Comments will be posted as received to https://www.cftc.gov.

FOR FURTHER INFORMATION CONTACT: Eileen Chotiner, Division of Clearing and Risk, Commodity Futures Trading Commission, (202) 418-5467; email: echotiner@cftc.gov, and refer to OMB Control No. 3038-0117.

SUPPLEMENTARY INFORMATION: Under the PRA, 44 U.S.C. 3501 et seq., Federal agencies must obtain approval from the Office of Management and Budget (OMB) for each collection of information they conduct or sponsor. “Collection of Information” is defined in 44 U.S.C. 3502(3) and 5 CFR 1320.3 and includes agency requests or requirements that members of the public submit reports, keep records, or provide information to a third party. Section 3506(c)(2)(A) of the PRA, 44 U.S.C. 3506(c)(2)(A), requires Federal agencies to provide a 60-day notice in the Federal Register concerning each proposed information collection including each proposed extension of an existing information collection, before submitting the collection to OMB for approval. To comply with this requirement, the CFTC is publishing notice of its intent to request approval for an existing collection in use without a currently approved OMB control number relating to the granting of exemptions from registration as a Derivatives Clearing Organization (“DCO”). An agency may not conduct or sponsor, and a person is not required to respond to, an information collection unless it displays a currently valid OMB control number.

Title: Exemption from Derivatives Clearing Organization Registration (OMB Control No. 3038-0117). This is a request for approval for an existing collection in use without a currently approved OMB control number.

Abstract: This information collection is associated with CFTC regulations codifying the policies and procedures that the Commission follows with respect to granting exemptions from registration as a DCO for the clearing of proprietary swaps for U.S. persons and futures commission merchants (“FCMs”). The rules include reporting requirements that are collections of information requiring approval under the PRA. Specifically, section 39.6 of the Commission's regulations specifies the conditions and procedures under which a clearing organization may apply for exemption from registration as a DCO, the information that must be provided to the Commission to obtain and maintain such exemption, and procedures for termination of an exemption. See 17 CFR 39. The information that is collected under these regulations is necessary for the Commission to determine whether a clearing organization qualifies for exemption from DCO registration, to evaluate the continued eligibility of the exempt DCO for exemption from registration, to review compliance by the exempt DCO with any conditions of such exemption, or to conduct its oversight of U.S. persons and the swaps that are cleared by U.S. persons through the exempt DCO.

With respect to the collection of information, the CFTC invites comments on:

• Whether the proposed collection of information is necessary for the proper performance of the functions of the CFTC, including whether the information will have a practical use;

• The accuracy of the CFTC's estimate of the burden of the proposed collection of information, including the validity of the methodology and assumptions used;

• Ways to enhance the quality, usefulness, and clarity of the information to be collected; and

• Ways to minimize the burden of collection of information on those who are to respond, including through the use of appropriate automated electronic, mechanical, or other technological collection techniques or other forms of information technology; e.g., permitting electronic submission of responses.

You should submit only information that you wish to make available publicly. If you wish the CFTC to consider information that you believe is exempt from disclosure under the Freedom of Information Act (“FOIA”), a petition for confidential treatment of the exempt information may be submitted according to the procedures established in § 145.9 of the CFTC's regulations.¹

¹ 17 CFR 145.9.

The CFTC reserves the right, but shall have no obligation, to review, pre-screen, filter, redact, refuse or remove any or all of your submission from https://www.cftc.gov that it may deem to be inappropriate for publication, such as obscene language. All submissions that have been redacted or removed that contain comments on the merits of the Information Collection Request will be retained in the public comment file and will be considered as required under the Administrative Procedure Act and other applicable laws, and may be accessible under FOIA.

Burden Statement: The provisions of part 39 of the CFTC's Regulations include reporting requirements that constitute information collections within the meaning of the PRA. With respect to the ongoing reporting obligations associated with exemption from DCO registration, the CFTC believes that exempt DCOs incur an aggregate annual time-burden of 257 hours.

Respondents/affected entities: Derivatives Clearing Organizations.

Estimated number of respondents: 9.

Estimated average burden hours per respondent: 29 hours.²

² Average burden hours per respondent rounded to the nearest full hour.

Estimated total annual burden hours on respondents: 257 hours.

Frequency of collection: On occasion.

There are no capital costs or operating and maintenance costs associated with this collection.

(Authority: 44 U.S.C. 3501 et seq.)

Dated: May 24, 2023.
Robert Sidman,
Deputy Secretary of the Commission.

[FR Doc. 2023-11423 Filed 5-26-23; 8:45 am]

BILLING CODE 6351-01-P